DEPARTMENT OF DEFENSE

Office of the Secretary

[Transmittal No. 19-11]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-11 with attached Policy Justification.

Dated: June 7, 2019.
Aaron T. Siegel,
Alternate OSD Federal Register Liaison Officer, Department of Defense.

BILLING CODE 5001-06-P

BILLING CODE 5001-06-C

Transmittal No. 19-11

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0 million
Other | $500 million
TOTAL | $500 million

(iii) Description and Quantity or Quantities of Articles or Services under Consideration for Purchase:

Major Defense Equipment (MDE): None

Non-MDE: Continuation of a pilot training program and maintenance/logistics support for F-16 aircraft currently at Luke Air Force Base, Arizona, to include flight training; participation in U.S. Government approved training exercises; inert/dummy training munitions; supply and maintenance support; spares and repair parts; support equipment; U.S. Government program management; publications; documentation; personnel training and training equipment; fuel and fueling services; U.S. Government and contractor engineering, technical, and logistics support services; and other related elements of program and logistical support necessary to sustain a long term CONUS training program.

(iv) Military Department: Air Force (TW-D-NHF)

(v) Prior Related Cases, if any: TW-D-NHA, TW-D-NHC, TW-D-NHD, TW-D-NHE

(vi) Sales Commission, Fee, etc., Paid, Offered, or Agreed to be Paid: None

(vii) Sensitivity of Technology Contained in the Defense Article or Defense Services Proposed to be Sold: None

(viii) Date Report Delivered to Congress: April 15, 2019

*As defined in Section 47(6) of the Arms Export Control Act.

POLICY JUSTIFICATION

Taipei Economic and Cultural Representative Office in the United States (TECRO)—CONUS Based F-16 Training

TECRO has requested a possible sale for the continuation of a pilot training program and maintenance/logistics support for F-16 aircraft currently at Luke Air Force Base, Arizona, to include flight training; participation in U.S. Government approved training exercises; inert/dummy training munitions; supply and maintenance support; spares and repair parts; support equipment; U.S. Government program management; publications; documentation; personnel training and training equipment; fuel and fueling services; U.S. Government and contractor engineering, technical, and logistics support services; and other related elements of program and logistical support necessary to sustain a long-term CONUS training program. The total estimated program cost is $500 million.

This proposed sale is consistent with U.S. law and policy as expressed in Public Law 96-8.

This proposed sale will support the foreign policy and national security of the United States by helping to improve the security and defensive capability of the recipient, which has been and continues to be an important force for political stability, military balance, and economic progress in the region.

The recipient and the United States Air Force (USAF) will have the opportunity to fly together, which will support disaster relief missions, non-combatant evacuation operations, and other contingency situations. These services and equipment are used in the continuing pilot training program currently at Luke Air Force Base, Arizona. This program enables the recipient to develop mission ready and experienced pilots through CONUS training. The training provides a “capstone“ course that takes experienced pilots and significantly improves their tactical proficiency. Training is a key component of combat effectiveness.

The proposed sale of this equipment and support will not alter the basic military balance in the region.

The prime contractors will be URS Federal Services, Inc., Germantown, MD and L3, Greenville, Texas. At this time, there are no known offset agreements proposed in connection with this potential sale.

Implementation of this proposed sale will not require the assignment of any additional U.S. Government or contractor representatives to the recipient. The USAF will provide instruction, flight operations, maintenance support and facilities. Approximately 100 U.S. contractors will provide aircraft maintenance and logistics support for the F-16 aircraft.

There will be no adverse impact on U.S. defense readiness as a result of this proposed sale.

[FR Doc. 2019-12431 Filed 6-12-19; 8:45 am]

BILLING CODE 5001-06-P